DEPARTMENT OF LABOR

Employment and Training Administration

[NAFTA-5602]

Intervet, Inc., Gainesville Facility; Gainesville, Georgia; Notice of Termination of Investigation

Pursuant to Title V of the North American Free Trade Agreement Implementation Act (Pub. L. 103-182) concerning transitional adjustment assistance, hereinafter called NAFTA-TAA and in accordance with section 250(a), Subchapter D, Chapter 2, Title II, of the Trade Act of 1974, as amended (19 USC 2331), an investigation was initiated on December 4, 2001, in response to a worker petition which was filed by the company on behalf of workers at Intervet, Inc., Gainesville Facility, Gainesville, Georgia.

The petitioner has requested that the petition be withdrawn. Consequently, further investigation in this case would serve no purpose, and the investigation has been terminated.

Signed in Washington, DC this 9th day of January, 2002.
Linda G. Poole,
Certifying Officer, Division of Trade Adjustment Assistance.

[FR Doc. 02-1775 Filed 1-24-02; 8:45 am]

BILLING CODE 4510-30-M